DEPARTMENT OF TRANSPORTATION

Federal Aviation Administration

14 CFR Part 39

[Docket No. 99-NE-17-AD]

RIN 2120-AA64

Airworthiness Directives; Honeywell International Inc. Models LTS101-600A-2 and LTS101-600A-3 Turboshaft Engines; and LTP101-600A-1A and LTP101-700A-1A Turboprop Engines

AGENCY: Federal Aviation Administration, DOT.

ACTION: Notice of proposed rulemaking (NPRM).

SUMMARY: This document proposes the adoption of a new airworthiness directive (AD) that is applicable to Honeywell International Inc. (formerly AlliedSignal Inc. and Textron Lycoming) Models LTS101-600A-2 and LTS101-600A-3 turboshaft engines; and LTP101-600A-1A and LTP101-700A-1A turboprop engines. This proposal would require replacing certain fuel controls that have beryllium-copper bellows with improved fuel controls that incorporate Inconel 718 stainless steel welded bellows. This proposal is prompted by a report of an uncommanded power loss on a Textron Lycoming LTS101 engine due to a corrosion damaged fuel control bellows. The actions specified by the proposed AD are intended to prevent the engine from reducing the fuel flow to minimum flow resulting in an uncommanded power loss.

DATES: Comments must be received by May 11, 2001.

ADDRESSES: Submit comments in triplicate to the Federal Aviation Administration (FAA), New England Region, Office of the Regional Counsel, Attention: Rules Docket No. 99-NE-17-AD, 12 New England Executive Park, Burlington, MA 01803-5299. Comments may also be sent via the Internet using the following address: “9-ane-adcomment@faa.gov.” Comments sent via the Internet must contain the docket number in the subject line. Comments may be inspected at this location between 8:00 a.m. and 4:30 p.m., Monday through Friday, except Federal holidays.

FOR FURTHER INFORMATION CONTACT: Robert Baitoo, Aerospace Engineer, Los Angeles Aircraft Certification Office, FAA, Transport Airplane Directorate, 3960 Paramount Blvd., Lakewood, CA 90712-4137; telephone (562) 627-5245, fax (562) 627-5210.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 99-NE-17-AD.” The postcard will be date stamped and returned to the commenter.

Availability of NPRM's

Any person may obtain a copy of this NPRM by submitting a request to the FAA, New England Region, Office of the Regional Counsel, Attention: Rules Docket No. 99-NE-17-AD, 12 New England Executive Park, Burlington, MA 01803-5299.

Discussion

The FAA has received a report of an uncommanded engine power loss on a Textron Lycoming LTS101 turboshaft engine. The current Type Certificate holder has determined that the power loss was due to corrosion damage to the beryllium-copper bellows of the fuel control. The same beryllium-copper bellows was used in fuel controls on Allison Engine Co. 250-B and 250-C turboshaft and turboprop engines. The FAA issued AD 98-24-28 that was published in the Federal Register on December 3, 1998 (63 FR 66735) to require replacement of those beryllium-copper bellows with Inconel 718 stainless steel welded bellows. This condition, if not corrected, could result in the engine reducing the fuel flow to minimum flow resulting in an uncommanded power loss.

Evaluation of the Unsafe Condition

Since an unsafe condition has been identified that is likely to exist or develop on other LTS101-600A-2 and LTS101-600A-3 turboshaft; and LTP101-600A-1A and LTP101-700A-1A turboprop engines of the same type design, the proposed AD would require replacement of fuel controls with the following part numbers with an improved design fuel control that incorporates an Inconel 718 stainless steel welded bellows.

4-301-098-01, 4-301-098-04, 4-301-098-10, 4-301-098-15, 4-301-288-01, 4-301-288-04, 4-303-023-01, 4-303-023-02, 4-303-023-03, 4-303-023-04, 4-303-033-01, 4-303-033-02, and 4-303-033-04

Economic Impact

The FAA estimates that 40 engines installed on aircraft of U.S. registry would be affected by this proposed AD and that it would take approximately 3 work hours per engine to accomplish the proposed actions. The average labor rate is $60 per work hour. There are no required parts costs. Based on these figures, the total cost impact of the proposed AD on U.S. operators is estimated to be $7,200.

Regulatory Impact

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Honeywell International, Inc.: Docket No. 99-NE-17-AD.

Applicability: This airworthiness directive (AD) is applicable to Honeywell International, Inc. (formerly AlliedSignal Inc. and Textron Lycoming) Models LTS101-600A-2 and LTS101-600A-3 turboshaft and LTP101-600A-1A and LTP101-700A-1A turboprop engines with fuel controls with the following part numbers (P/N's) installed:

Table 1.—Fuel Control P/N's
Engine model No. | Fuel Control P/N
1. LTS101-600A-2 | 4-301-098-01, 4-301-098-04, 4-301-098-10, 4-301-098-15.
2. LTS101-600A-3 | 4-301-288-01, 4-301-288-04.
3. LTP101-600A-1A | 4-303-023-01, 4-303-023-02, 4-303-023-03, 4-303-023-04.
4. LTP101-700A-1A | 4-303-033-01, 4-303-033-02, 4-303-033-04.

These engines are used on, but not limited to, Aerospatiale AS350 helicopters and Air Tractor AT-302, Page Thrush, Piaggio P.166-DL3, and Riley International R421 airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Compliance with this AD is required at the next replacement of the fuel control or within 12 calendar months after the effective date of this AD, whichever occurs first.

To prevent a decrease in fuel flow to minimum flow that could result in an uncommanded power loss, do the following:

(a) Remove any fuel control that has one of the P/N's listed in Table 1 of this AD, and replace with a fuel control that does not have one of the part numbers listed in Table 1 of this AD.

Alternative Methods of Compliance

(b) An alternative method of compliance or adjustment of the compliance time that provides an acceptable level of safety may be used if approved by the Manager, Los Angeles Aircraft Certification Office (LAACO). Operators shall submit their request through an appropriate FAA Principal Maintenance Inspector, who may add comments and then send it to the Manager, LAACO.

Note 2: Information concerning the existence of approved alternative methods of compliance with this airworthiness directive, if any, may be obtained from the LAACO.

Special Flight Permits

(c) Special flight permits may be issued in accordance §§ 21.197 and 21.199 of the Federal Aviation Regulations (14 CFR 21.197 and 21.199) to operate the aircraft to a location where the requirements of this AD can be accomplished.

Issued in Burlington, Massachusetts, on March 1, 2001.
David A. Downey,
Acting Manager, Engine and Propeller Directorate, Aircraft Certification Service.

[FR Doc. 01-5738 Filed 3-9-01; 8:45 am]

BILLING CODE 4910-13-U